DEPARTMENT OF COMMERCE

International Trade Administration

[A-580-809]

Circular Welded Non-Alloy Steel Pipe From the Republic of Korea: Notice of Extension of Time Limit for Preliminary Results of Administrative Review

AGENCY: Import Administration, International Trade Administration, Department of Commerce.

ACTION: Notice of extension of time limit for preliminary results of antidumping duty administrative review.

EFFECTIVE DATE: October 6, 2000.

FOR FURTHER INFORMATION CONTACT: Jarrod Goldfeder or Greg Campbell at (202) 482-0189 and (202) 482-2239, respectively, Office of AD/CVD Enforcement I, Group I, Import Administration, International Trade Administration, U.S. Department of Commerce, 14th Street and Constitution Ave, NW, Washington, DC 20230.

Time Limits

Statutory Time Limits

Section 751(a)(3)(A) of the Tariff Act of 1930, as amended (the Act), requires the Department to make a preliminary determination within 245 days after the last day of the anniversary month of an order/finding for which a review is requested and a final determination within 120 days after the date on which the preliminary determination is published. However, if it is not practicable to complete the review within the time period, section 751(a)(3)(A) of the Act allows the Department to extend these deadlines to a maximum of 365 days and 180 days, respectively.

Background

On December 28, 1999, the Department published a notice of initiation of administrative review of the antidumping duty order on circular welded non-alloy steel pipe from the Republic of Korea, covering the period November 1, 1998, through October 31, 1999 (64 FR 72644). On July 18, 2000, the Department extended the time limit for completion of the preliminary results by 66 days, or until no later than October 6, 2000. See Circular Welded Non-Alloy Steel Pipe From the Republic of Korea; Notice of Extension of Time Limit for Preliminary Results and Partial Rescission of Antidumping Administrative Review, (65 FR 44521).

Extension of Preliminary Results of Review

We determine that due to limited administrative resources and complex issues present in this review (e.g., date of sale, level of trade, and CEP offset), it is not practicable to complete the preliminary results of this review within the previously extended time limit. Therefore, the Department is further extending the time limits for completion of the preliminary results by an additional 28 days, or until no later than November 3, 2000.

This extension is in accordance with section 751(a)(3)(A) of the Act.

Dated: October 2, 2000.
Richard W. Moreland,
Deputy Assistant Secretary, Import Administration, Group I.

[FR Doc. 00-25793 Filed 10-5-00; 8:45 am]

BILLING CODE 3510-DS-P